DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Implantation and Recovery of Archival Tags.

OMB Control Number: 0648-0338.

Form Number(s): NA.

Type of Request: Regular submission (extension of a current information collection).

Number of Respondents: 35.

Average Hours per Response: Tag recovery, 30 minutes; tag implantation notification and annual reports, 40 minutes each; interim reports, 1 hour each.

Burden Hours: 47.

Needs and Uses: This request is for extension of a currently approved information collection.

The National Oceanic and Atmospheric Administration (NOAA) allows scientists to implant archival tags in, or affix archival tags to, selected Atlantic Highly Migratory Species (tunas, sharks, swordfish, and billfish). Archival tags collect location, temperature, and water depth data that is useful for scientists researching the movements and behavior of individual fish. It is often necessary to retrieve the tags in order to collect the data. Therefore, the National Marine Fisheries Service (NMFS) exempts persons catching tagged fish from certain otherwise applicable regulations at 50 CFR 635 (e.g., immediate release of the fish, minimum size, prohibited species, retention limits). These participants must notify NOAA, return the archival tag or make it available to NOAA personnel, and provide information about the location and method of capture if they harvest a fish that has an archival tag. The information obtained is used by NOAA for international and domestic fisheries policy and regulations.

Scientists not employed by NOAA must obtain NOAA authorization before affixing or implanting archival tags and submit subsequent reports about the tagging of fish. NOAA needs that information to evaluate the effectiveness of archival tag programs, to assess the likely impact of regulatory allowances for tag recovery, and to ensure that the research does not produce excessive mortality.

Affected Public: Not-for-profit institutions; individuals or households.

Frequency: On occasion.

Respondent's Obligation: Voluntary; required to retain or obtain benefits.

This information collection request may be viewed at reginfo.gov. Follow the instructions to review Department of Commerce collections currently under review by OMB.

Written comments and recommendations for the proposed information collection should be sent within 30 days of publication of this notice to OIRA_Submission@omb.eop.gov or faxed to (202) 395-5806.

Dated: August 25, 2014.
Gwellnar Banks,
Management Analyst, Office of the Chief Information Officer.

[FR Doc. 2014-20562 Filed 8-28-14; 8:45 am]

BILLING CODE 3510-22-P